DEPARTMENT OF JUSTICE

[OMB Number 1121-0319]

Agency Information Collection Activities; Proposed eCollection eComments Requested; Reinstatement, With Change, of a Previously Approved Collection for Which Approval Has Expired: National Survey of Youth in Custody, 2017-2018

AGENCY: Bureau of Justice Statistics, Department of Justice.

ACTION: 60-day notice.

SUMMARY: The Department of Justice (DOJ), Office of Justice Programs, Bureau of Justice Statistics, will be submitting the following information collection request to the Office of Management and Budget (OMB) for review and approval in accordance with the Paperwork Reduction Act of 1995.

DATES: Comments are encouraged and will be accepted for 60 days until August 7, 2017.

FOR FURTHER INFORMATION CONTACT: If you have additional comments especially on the estimated public burden or associated response time, suggestions, or need a copy of the proposed information collection instrument with instructions or additional information, please contact Jessica Stroop, Statistician, Bureau of Justice Statistics, 810 Seventh Street NW., Washington, DC 20531 (email: jessica.stroop@usdoj.gov; telephone: 202-598-7610).

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Overview of This Information Collection

1. Type of Information Collection: New data collection.

2. The Title of the Form/Collection: National Survey of Youth in Custody, 2017-2018.

3. The agency form number, if any, and the applicable component of the Department sponsoring the collection: Form numbers not available at this time. The Bureau of Justice Statistics, Office of Justice Programs, Department of Justice is the sponsor for the collection.

4. Affected public who will be asked or required to respond, as well as a brief abstract: Primary: State, Local, or Tribal Government. Other: Federal Government, Business or other for-profit, Not-for-profit institutions. The work under this clearance will be used to develop and implement surveys to produce estimates for the incidence and prevalence of sexual assault within juvenile correctional facilities as required under the Prison Rape Elimination Act of 2003 (Pub. L. 108-79). Juvenile facility points of contact will be asked to fill out an online survey gathering facility-level characteristics. Sampled youth in custody will be asked to complete an audio computer-assisted self-interview about their experiences inside the facility.

5. An estimate of the total number of respondents and the amount of time estimated for an average respondent to respond: It is estimated that 354 facility points of contact will spend approximately one hour filling out the facility characteristics questionnaire. It is estimated that 8,690 youth respondents will spend approximately 7 minutes going through the assent process and 35 minutes on average responding to the survey.

6. An estimate of the total public burden (in hours) associated with the collection: There are an estimated 12,533 total burden hours associated with this collection (including gathering facility-level information, obtaining parental consent, administrative records, and roster processing).

If additional information is required contact: Melody Braswell, Department Clearance Officer, United States Department of Justice, Justice Management Division, Policy and Planning Staff, Two Constitution Square, 145 N Street NE., 3E.405A, Washington, DC 20530.

Dated: June 1, 2017.
Melody Braswell,
Department Clearance Officer for PRA, U.S. Department of Justice.

[FR Doc. 2017-11655 Filed 6-5-17; 8:45 am]

BILLING CODE 4410-18-P